DEPARTMENT OF HEALTH AND HUMAN SERVICES

National Institutes of Health

National Institute on Deafness and Other Communication Disorders; Amended Notice of Meeting

Notice is hereby given of a change in the meeting of the National Institute on Deafness and Other Communications Disorders Special Emphasis Panel, June 19, 2002, 8 a.m. to June 19, 2002, 5 p.m., Hyatt Regency of Bethesda, MD, 20814 which was published in the Federal Register on May 22, 2002, 67 FR 36012.

The meeting will be held at the Governor's House Hotel, 1615 Rhode Island Avenue, Washington, DC to review grant applications. The meeting is closed to the public.

Dated: May 31, 2002.
LaVerne Y. Stringfield,
Director, Office of Federal Advisory Committee Policy.

[FR Doc. 02-14305 Filed 6-6-02; 8:45 am]

BILLING CODE 4140-01-M